DEPARTMENT OF COMMERCE

International Trade Administration

[A-570-832]

Pure Magnesium From the People's Republic of China: Extension of Time for the Final Results of the Antidumping Duty Administrative Review

AGENCY: Import Administration, International Trade Administration, Department of Commerce.

DATES: Effective Date: September 23, 2011.

FOR FURTHER INFORMATION CONTACT: Eve Wang, AD/CVD Operations, Office 8, Import Administration, International Trade Administration, U.S. Department of Commerce, 14th Street and Constitution Avenue, NW., Washington, DC 20230; telephone: (202) 482-6231.

Background

On June 8, 2011, the Department of Commerce (“the Department”) published the preliminary results of this administrative review for the period May 1, 2009, to April 30, 2010. See Pure Magnesium from the People's Republic of China: Preliminary Results of the 2009-2010 Antidumping Duty Administrative Review, 76 FR 33194 (June 8, 2011). The final results of review are currently due on October 6, 2011.

Extension of Time Limits for the Final Results of Review

Section 751(a)(3)(A) of the Tariff Act of 1930, as amended (“the Act”), requires the Department to issue final results within 120 days after the date on which the preliminary results are published. However, if it is not practicable to complete the review within this time period, section 751(a)(3)(A) of the Act allows the Department to extend the time period to a maximum of 180 days. The Department determines that completion of the final results of the administrative review within the 120-day period is not practicable. Since the publication of the Preliminary Results, parties have submitted additional surrogate value information, the Department released its labor wage surrogate value data and allowed parties to submit comments thereon, and the parties submitted case and rebuttal briefs. The Department requires additional time to consider this information and argument. Further, the Department provided the opportunity for the parties to be heard at a hearing.

Because it is not practicable to complete this review within the time specified under the Act, we are extending the time period for issuing the final results of the administrative review by 45 days, or until November 21, 2011,¹ in accordance with section 751(a)(3)(A) of the Act.

¹ Where a deadline falls on a weekend or Federal holiday, the appropriate deadline is the next business day. See Notice of Clarification: Application of “Next Business Day” Rule for Administrative Determination Deadlines Pursuant to the Tariff Act of 1930, As Amended, 70 FR 24533 (May 10, 2005). Accordingly, because 45 days from the original due date is November 20, 2011, which falls on Sunday, November 21 is the deadline for the final results.

We are publishing this notice pursuant to sections 751(a) and 777(i) of the Act.

Dated: September 16, 2011.
Christian Marsh,
Deputy Assistant Secretary for Antidumping and Countervailing Duty Operations.

[FR Doc. 2011-24557 Filed 9-22-11; 8:45 am]

BILLING CODE 3510-DS-P